DEPARTMENT OF ENERGY

Federal Energy Regulatory Commission

[Project No. 4334-017]

EONY Generation Limited; Notice of Waiver Period for Water Quality Certification Application

On August 29, 2022, EONY Generation Limited submitted to the Federal Energy Regulatory Commission (Commission) a copy of its application for a Clean Water Act section 401(a)(1) water quality certification filed with New York State Department of Environmental Conservation (New York DEC), in conjunction with the above captioned project. Pursuant to 40 CFR 121.6 and section 4.34(b)(5) of the Commission's regulations,¹ we hereby notify the New York DEC of the following:

¹ 18 CFR 4.34(b)(5).

Date of Receipt of the Certification Request: August 26, 2022.

Reasonable Period of Time to Act on the Certification Request: One year (August 26, 2023).

If New York DEC fails or refuses to act on the water quality certification request on or before the above date, then the agency certifying authority is deemed waived pursuant to section 401(a)(1) of the Clean Water Act, 33 U.S.C. 1341(a)(1).

Dated: September 7, 2022.
Kimberly D. Bose,
Secretary.

[FR Doc. 2022-19721 Filed 9-12-22; 8:45 am]

BILLING CODE 6717-01-P